DEPARTMENT OF THE TREASURY

Office of Foreign Assets Control

Removal of JADE Act Tags

ACTION: Notice.

SUMMARY: The Treasury Department's Office of Foreign Assets Control (“OFAC”) is removing from the Specially Designated Nationals List tags that had identified certain individuals and entities as subject to the blocking and financial provisions of the Tom Lantos Block Burmese JADE (Junta's Anti-Democratic Efforts) Act of 2008 (“JADE Act”).

DATES: As of August 7, 2013, the financial and blocking provisions of Section 5(b) of the JADE Act do not apply.

FOR FURTHER INFORMATION CONTACT: Assistant Director, Sanctions Compliance and Evaluation, Office of Foreign Assets Control, Department of the Treasury, Washington, DC 20220, Tel.: 202/622-2490.

SUPPLEMENTARY INFORMATION:

Electronic and Facsimile Availability

This document and additional information concerning OFAC are available from OFAC's Web site (www.treasury.gov/ofac) or via facsimile through a 24-hour fax-on-demand service, Tel.: 202/622-0077.

Background

On August 6, 2013, President Barack Obama issued Executive Order 13651 (“E.O. 13651”). In Section 8 of E.O. 13651, the President determined and certified, pursuant to section 5(i) of the Tom Lantos Block Burmese JADE (Junta's Anti-Democratic Efforts) Act of 2008 (the “JADE Act”), that it is in the national interest of the United States to waive, and thereby waived, the sanctions described in section 5(b) of the JADE Act. As a result, as of August 7, the effective date of E.O. 13651, the financial and blocking provisions of section 5(b) of the JADE Act do not apply. Except as authorized or exempt, transactions with persons included on the Specially Designated Nationals and Blocked Persons List (“SDN List”) continue to be prohibited pursuant to the International Emergency Economic Powers Act (“IEEPA”). Accordingly, while OFAC is updating the SDN List to remove the [JADE Act] tag that had publicly identified the following individuals and entities as subject to the financial and blocking provisions of Section 5(b) of the JADE Act, transactions and dealings with these individuals and entities continue to be prohibited pursuant to IEEPA:

1. GOLDEN AARON PTE. LTD.

2. MAX MYANMAR GROUP OF COMPANIES

3. DAGON INTERNATIONAL LIMITED

4. ZAW, Zaw

5. AUNG, Win

6. MAX SINGAPORE INTERNATIONAL PTE. LTD.

7. ROYAL KUMUDRA HOTEL

8. ESPACE AVENIR EXECUTIVE SERVICED APARTMENT

9. MAX (MYANMAR) CONSTRUCTION CO. LTD.

10. MAX MYANMAR GEMS AND JEWELLERY CO. LTD.

11. MAX MYANMAR MANUFACTURING CO. LTD.

12. MAX MYANMAR SERVICES CO. LTD.

13. MAX MYANMAR TRADING CO. LTD.

14. G A CAPITAL PTE. LTD.

15. G A FOODSTUFFS PTE. LTD.

16. G A ARDMORE PTE. LTD.

17. G A LAND PTE. LTD.

18. G A RESORT PTE. LTD.

19. G A SENTOSA PTE. LTD.

20. G A TREASURE PTE. LTD.

21. G A WHITEHOUSE PTE. LTD.

22. SENTOSA TREASURE PTE. LTD.

Dated: December 3, 2013.
Adam Sbuzin,
Director, Office of Foreign Assets Control.

[FR Doc. 2013-30626 Filed 12-24-13; 8:45 am]

BILLING CODE 4810-AL-P